ENVIRONMENTAL PROTECTION AGENCY

40 CFR Parts 51, 52, 60, 70, and 71

[EPA-HQ-OAR-2015-0355; FRL-9955-14-OAR]

RIN 2060-AS62

Revisions to the Prevention of Significant Deterioration (PSD) and Title V Greenhouse Gas (GHG) Permitting Regulations and Establishment of a Significant Emissions Rate (SER) for GHG Emissions Under the PSD Program

AGENCY: Environmental Protection Agency (EPA).

ACTION: Proposed rule; extension of comment period.

SUMMARY: On August 26, 2016, the Environmental Protection Agency (EPA) issued a proposed rule to revise provisions in the Prevention of Significant Deterioration (PSD) and title V permitting regulations applicable to greenhouse gases (GHGs) to fully conform with recent court decisions. The EPA is extending the comment period on this proposed rule that was scheduled to close on December 2, 2016. The EPA received a letter requesting the extension of the proposed rule public comment period to allow the public additional time to review the rule and supporting documentation.

DATES: The public comment period on the proposed rule published in the Federal Register on October 3, 2016 (81 FR 68110), is being extended. Written comments must be received on or before December 16, 2016.

ADDRESSES: Submit your comments, identified by Docket ID No. EPA-HQ-OAR-2015-0355, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions, and general guidance on making effective comments, please visit http://www2.epa.gov/dockets/commenting-epa-dockets.

FOR FURTHER INFORMATION CONTACT: For additional information on this action, contact Jessica Montañez, Office of Air Quality Planning and Standards, Environmental Protection Agency (C504-03), Research Triangle Park, North Carolina 27711; telephone number (919) 541-3407; fax number (919) 541-5509; email address: montanez.jessica@epa.gov.

SUPPLEMENTARY INFORMATION: After considering the request to extend the public comment period, the EPA has decided to extend the public comment period by 2 weeks, until December 16, 2016. This extension will ensure that the public has additional time to review the proposed rule and its supporting documents.

Dated: November 9, 2016.
Mary Henigin,
Acting Director, Office of Air Quality Planning and Standards.

[FR Doc. 2016-27670 Filed 11-17-16; 8:45 am]

BILLING CODE 6560-50-P